DEPARTMENT OF HEALTH AND HUMAN SERVICES

Centers for Disease Control and Prevention

Disease, Disability, and Injury Prevention and Control Special Emphasis Panel (SEP): Environmental Health Specialist Network, Program Announcement Number (PA) 05013

In accordance with Section 10(a)(2) of the Federal Advisory Committee Act (Pub. L. 92-463), the Centers for Disease Control and Prevention (CDC) announces the following meeting:

Name: Disease, Disability, and Injury Prevention and Control Special Emphasis Panel (SEP): Environmental Health Specialist Network, PA Number 05013.

Times and Dates: 9 a.m.-9:30 a.m., January 25, 2005 (Open), 9:30 a.m.-5 p.m., January 25, 2005 (Closed).

Place: Hilton Atlanta Airport, 1031 Virginia Avenue, Atlanta, GA 30354, Telephone Number 404 767-9000.

Status: Portions of the meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Environmental Health Specialist Network, PA Number 05013.

Contact Person for Further Information: Mildred Williams-Johnson, PhD, Scientific Review Administrator, Centers for Disease Control, National Center for Environmental Health, 1600 Clifton Road NE., Mailstop E28, Atlanta, GA 30333, Telephone (404) 498-0639.

The Director, Management Analysis and Services Office, has been delegated the authority to sign Federal Register notices pertaining to announcements of meetings and other committee management activities, for both CDC and the Agency for Toxic Substances and Disease Registry.

Dated: December 16, 2004.
Alvin Hall,
Director, Management Analysis and Services Office, Centers for Disease Control and Prevention.

[FR Doc. 04-27950 Filed 12-21-04; 8:45 am]

BILLING CODE 4163-18-P